CORPORATION FOR NATIONAL AND COMMUNITY SERVICE

Agency Information Collection Activities; Submission to the Office of Management and Budget for Review and Approval; Comment Request; Application Package for Segal AmeriCorps Education Award Commitment Form

AGENCY: Corporation for National and Community Service (CNCS).

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995. This program helps to ensure that requested data can be provided in the desired format, reporting burden (time and financial resources) is minimized, collection instruments are clearly understood, and the impact of collection requirement on respondents can be properly assessed.

Currently, CNCS is soliciting comments concerning its proposed renewal of the Segal AmeriCorps Education Award Matching Program Commitment Form. This form is submitted by institutions of higher education that provide educational benefits for AmeriCorps alumni. These benefits can include matching the AmeriCorps Education Award that members receive after successful completion of the AmeriCorps program, scholarships, and application fee waivers. Completion of this information collection is required for institutions to enroll in the Segal AmeriCorps Education Award Matching Program and appear on the Segal AmeriCorps Education Award Matching Program section of the Corporation for National and Community Service website.

Copies of the information collection request can be obtained by contacting the office listed in the ADDRESSES section of this Notice.

DATES: Written comments must be submitted to the individual and office listed in the ADDRESSES section by May 29, 2018.

ADDRESSES: You may submit comments, identified by the title of the information collection activity, by any of the following methods:

(1) By mail sent to: Corporation for National and Community Service; Attention: Rhonda Taylor, 250 E Street SW, Washington, DC 20525.

(2) By hand delivery or by courier to CNCS at the mail address given in paragraph (1) above, between 9:00 a.m. and 4:00 p.m. Eastern Time, Monday through Friday, except federal holidays.

(3) Electronically through www.regulations.gov.

Individuals who use a telecommunications device for the deaf (TTY-TDD) may call 1-800-833-3722 between 8:00 a.m. and 8:00 p.m. Eastern Time, Monday through Friday.

Comments submitted in response to this notice may be made available to the public through regulations.gov. For this reason, please do not include in your comments information of a confidential nature, such as sensitive personal information or proprietary information. If you send an email comment, your email address will be automatically captured and included as part of the comment that is placed in the public docket and made available on the internet. Please note that responses to this public comment request containing any routine notice about the confidentiality of the communication will be treated as public comment that may be made available to the public notwithstanding the inclusion of the routine notice.

FOR FURTHER INFORMATION CONTACT: Rhonda Taylor, 202-606-6721, or by email at RTaylor@cns.gov.

SUPPLEMENTARY INFORMATION:

Title of Collection: Segal AmeriCorps Education Award Commitment Form.

OMB Control Number: 3045-0143.

Type of Review: Renewal.

Affected Public: Institutions of higher education that provide incentives for AmeriCorps alumni such as matching the AmeriCorps Education Award that members receive after successful completion of the AmeriCorps Program and that request to be listed on the Segal AmeriCorps Education Award Matching Program section of the Corporation for National and Community Service website.

Total Estimated Number of Annual Respondents: Two hundred colleges and universities.

Total Estimated Annual Frequency: Once every five years.

Total Estimated Average Response Time per Response: Average 30 minutes.

Total Estimated Number of Annual Burden Hours: 100 hours.

Total Burden Cost (capital/startup): None.

Total Burden Cost (operating/maintenance): None.

Abstract: The information is provided by institutions of higher education who are requesting to be listed on the Segal AmeriCorps Education Award Matching Program section of the Corporation for National and Community Service website. The information will be collected electronically by the Corporation for National and Community Service. Comments submitted in response to this notice will be summarized and/or included in the request for OMB approval. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. All written comments will be available for public inspection on regulations.gov.

Dated: March 19, 2018.
Rhonda Taylor,
Director of Partnerships and Program Engagement.

[FR Doc. 2018-06173 Filed 3-27-18; 8:45 am]

BILLING CODE 6050-28-P